DEPARTMENT OF THE INTERIOR

Fish and Wildlife Service

50 CFR Chapter I

[Docket No. FWS-HQ-LE-2018-0078; FF09L00200-FX-LE18110900000]

Bald and Golden Eagle Protection Act and Migratory Bird Treaty Act; Religious Use of Feathers; Extension of Comment Period

AGENCY: Fish and Wildlife Service, Interior.

ACTION: Petition for rulemaking; extension of the comment period.

SUMMARY: In 2018, the U.S. Fish and Wildlife Service (Service) received a petition for rulemaking, which asks the Service to revise the existing rules pertaining to the religious use of federally protected bird feathers. The Service published the petition in the Federal Register for public comment pursuant to the terms of a settlement agreement entered into in 2016 by the United States with McAllen Grace Brethren Church et al. Today's action extends the comment period for 15 days.

DATES: The comment period on the petition for rulemaking that published April 30, 2019 (84 FR 18230), is extended. To ensure our consideration of your comments, they must be submitted on or before July 16, 2019.

ADDRESSES: Document availability: The petition and other materials mentioned in this document are available on the internet at http://www.regulations.gov in Docket No. FWS-HQ-LE-2018-0078. To review these materials in person, contact the person listed under FOR FURTHER INFORMATION CONTACT.

Comment submission: You may submit written comments by one of the following methods:

Electronically: Go to the Federal e-Rulemaking Portal: http://www.regulations.gov. Search for FWS-HQ-LE-2018-0078, which is the docket number for this notice, and follow the directions for submitting comments.

By hard copy: Submit by U.S. mail or hand-delivery to Public Comments Processing, Attn: FWS-HQ-LE-2018-0078; Division of Policy, Performance, and Management Programs; U.S. Fish and Wildlife Service; MS: BPHC; 5275 Leesburg Pike, Falls Church, VA 22041-3803.

We request that you send comments by only one of the methods described above. We will post all information received on http://www.regulations.gov. This generally means that we will post any personal information you provide us (see the Public Comments section below for more information).

FOR FURTHER INFORMATION CONTACT: Edward Grace, Assistant Director, U.S. Fish and Wildlife Service, Office of Law Enforcement, edward_grace@fws.gov, (703) 358-1949. Individuals who are hearing impaired or speech impaired may call the Federal Relay Service at 800-877-8337 for TTY assistance.

SUPPLEMENTARY INFORMATION:

Background

On July 26, 2018, the Service received a petition for rulemaking from Pastor Robert Soto, the lead plaintiff in McAllen Grace Brethren Church v. Jewell, No. 7:07-cv-060 (S.D. Tex. June 3, 2016) (hereinafter “McAllen”), and the Becket Fund for Religious Liberty, asking the Service to revise its existing rules pertaining to the religious use of federally protected bird feathers and parts for Native Americans. The petitioners submitted the petition pursuant to paragraph 7 of the June 10, 2016, settlement agreement between the McAllen Plaintiffs and the United States, which states that the Secretary of the Interior will publish the petition for public comment and make a decision on the petition within 2 years of receipt.

Accordingly, the U.S. Fish and Wildlife Service published the petition in the Federal Register on April 30, 2019 (84 FR 18230) and opened a comment period with a deadline of July 1, 2019. During the comment period, we received a request to extend the comment period. With this notice, we are extending the deadline for submission of comments, as requested.

Public Comments

You may obtain the petition for rulemaking, and you must submit your comments and materials concerning this petition, by one of the methods described in ADDRESSES. The Service will not consider the petition's merits until after the comment period ends on the date set forth in DATES. The Service will announce in the Federal Register any action that we decide to take in response to the petition and public comments we receive.

Written comments we receive become part of the public record associated with this action. Before including your address, phone number, email address, or other personal identifying information in your comment, you should be aware that the entire comment—including your personal identifying information—may be made publicly available at any time. While you can ask us in your comment to withhold your personal identifying information from public review, we cannot guarantee that we will be able to do so. All submissions from organizations or businesses, and from individuals identifying themselves as representatives or officials of organizations or businesses, will be made available for public disclosure in their entirety.

Dated: June 26, 2019.
Aurelia Skipwith,
Deputy Assistant Secretary for Fish and Wildlife and Parks.

[FR Doc. 2019-14069 Filed 7-1-19; 8:45 am]

BILLING CODE 4333-15-P